DEPARTMENT OF TRANSPORTATION

Office of the Secretary

Aviation Proceedings, Agreements Filed During the Week Ending June 9, 2000

The following Agreements were filed with the Department of Transportation under the provisions of 49 U.S.C. 412 and 414. Answers may be filed within 21 days after the filing of the application.

Docket Number: OST-2000-7498.

Date Filed: June 9, 2000.

Parties: Members of the International Air Transport Association.

Subject: PTC31 SOUTH 0085 dated 6 June 2000; South Pacific Resolutions r1-r30; Minutes—PTC31 SOUTH 0086 dated 6 June 2000; Tables—PTC31 SOUTH Fares 0023 dated 6 June 2000; Intended effective date: 1 October 2000.

Andrea M. Jenkins,
Federal Register Liaison.

[FR Doc. 00-16384 Filed 6-27-00; 8:45 am]

BILLING CODE 4910-62-P